FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 018126N.

Name: Alspac Miami Corporation.

Address: 8602 NW. 70th Street, Miami, FL 33166.

Date Revoked: March 20, 2009.

Reason: Surrendered license voluntarily.

License Number: 002375N.

Name: Action Customs Expediters, Inc. dba Action Shipping Agency.

Address: 115 Christopher Columbus Dr., Jersey City, NJ 07302.

Date Revoked: March 30, 2009.

Reason: Surrendered license voluntarily.

License Number: 020046N.

Name: Fremart International Inc.

Address: 17800 Castleton Street, Ste. 263, City of Industry, CA 91748.

Date Revoked: March 2, 2009.

Reason: Surrendered license voluntarily.

License Number: 002978F.

Name: Galaxy Forwarding, Inc.

Address: 407 River Drive So., Ste. 45, Jersey City, NJ 07310.

Date Revoked: March 12, 2009.

Reason: Surrendered license voluntarily.

License Number: 002355N.

Name: Pro-Service Forwarding Co., Inc. dba ISG Ocean Services.

Address: 901 W. Hillcrest Blvd., Inglewood, CA 90301.

Date Revoked: March 6, 2009.

Reason: Surrendered license voluntarily.

License Number: 000156F.

Name: W.M. Stone & Company, Incorporated.

Address: 838 Granby Street, Norfolk, VA 23510.

Date Revoked: March 16, 2009.

Reason: Surrendered license voluntarily.

License Number: 015946N.

Name: Wells International Corp.

Address: 180 15th Street, Jersey City, NJ 07310.

Date Revoked: March 10, 2009.

Reason: Surrendered license voluntarily.

Sandra L. Kusumoto,
Director, Bureau of Certification and Licensing.

[FR Doc. E9-8592 Filed 4-14-09; 8:45 am]

BILLING CODE 6730-01-P